DEPARTMENT OF ENERGY

Agency Information Collection Extension

AGENCY: U.S. Department of Energy.

ACTION: Submission for Office of Management and Budget (OMB) review; comment request.

SUMMARY: The Department of Energy (DOE) has submitted an information collection request to OMB for an extension under the provisions of the Paperwork Reduction Act of 1995. The information collection requests a three-year extension of its Chronic Beryllium Disease Prevention Program, OMB Control Number 1910-5112. This information collection request covers the information from DOE and DOE contractors that are subject to the Department's “Chronic Beryllium Disease Prevention Program.” The regulations contained in the Chronic Beryllium Disease Prevention Program have been promulgated under authority of the Atomic Energy Act of 1954 and the Department of Energy Organization Act.

DATES: Comments regarding this collection must be received on or before September 22, 2017. If you anticipate that you will be submitting comments, but find it difficult to do so within the period of time allowed by this notice, please advise the OMB Desk Officer of your intention to make a submission as soon as possible. The Desk Officer may be telephoned at (202) 395-4718.

ADDRESSES: Written comments should be sent to the DOE Desk Officer, Office of Information and Regulatory Affairs, Office of Management and Budget, New Executive Office Building, Room 10102, 735 17th Street NW., Washington, DC 20503, and to Bill McArthur, U.S. Department of Energy; Office of Health, Safety and Security, AU-11; 1000 Independence Avenue SW, Washington, DC 20585, (301) 903-9674, by fax at 301-903-7773, or by email at: bill.mcarthur@hq.doe.gov. Information about the collection instrument may be obtained at: https://energy.gov/ehss/information-collection.

FOR FURTHER INFORMATION CONTACT: Request for additional information should be directed to Bill McArthur, U.S. Department of Energy; Office of Health, Safety and Security, AU-11; 1000 Independence Avenue SW, Washington, DC 20585, (301) 903-9674, by fax at 301-903-7773, or by email at bill.mcarthur@hq.doe.gov.

SUPPLEMENTARY INFORMATION: This information collection request contains: (1) Current OMB Control Number: 1910-5112; (2) Information Collection Request Title: Chronic Beryllium Disease Prevention Program; (3) Type of Review: renewal; (4) Purpose: This information collection request covers the information from DOE and DOE contractors that are subject to the Department's “Chronic Beryllium Disease Prevention Program.,” (10 CFR part 850). This collection provides the Department with the information needed to continue reducing the number of workers currently exposed to beryllium in the course of their work at DOE facilities managed by DOE or its contractors; minimize the levels and potential exposure to beryllium; to provide information to employees, to provide medical surveillance to ensure early detection of disease; and to permit oversight of the programs by DOE management; (5) Annual Estimated Number of Respondents: 5,936 (22 DOE sites and 5,914 workers affected by the rule); (6) Annual Estimated Total Burden Hours: 25,399; (7) Number of Collections: The information collection request contains six information and/or recordkeeping requirements; (8) Annual Estimated Reporting and Recordkeeping Cost Burden: 1,441,230; (9) Response Obligation: Mandatory.

Statutory Authority: Atomic Energy Act of 1954, 42 U.S.C. 2201, and the Department of Energy Organization Act, 42 U.S.C. 7191 and 7254.

Issued in Washington, DC, on July 9, 2017.
Stephanie K. Martin,
Director, Office of Resource Management, Office of Environment, Health, Safety and Security.

[FR Doc. 2017-17843 Filed 8-22-17; 8:45 am]

BILLING CODE 6450-01-P